OFFICE OF THE UNITED STATES TRADE REPRESENTATIVE

Generalized System of Preferences (GSP): Notice of the Results of the 2005 Annual Product and Country Practices Reviews, and Certain Previously-Deferred Country Practice Decisions

AGENCY: Office of the United States Trade Representative.

ACTION: Notice.

SUMMARY: This notice announces the disposition of the product petitions accepted for review in the 2005 GSP Annual Product Review, the results of the 2005 Country Practices Review, the results of the 2005 De Minimis Waiver and Redesignation Reviews, the 2005 Competitive Need Limitation (CNL) removals, and certain previously-deferred country practice decisions.

FOR FURTHER INFORMATION CONTACT: The GSP Subcommittee, Office of the United States Trade Representative (USTR), Room F-220, 1724 F Street, NW., Washington, DC 20508. The telephone number is (202) 395-6971 and the facsimile number is (202) 395-9481. The e-mail address is FR0441@USTR.GOV.

SUPPLEMENTARY INFORMATION: The GSP program provides for the duty-free importation of designated articles when imported from beneficiary developing countries. The GSP program is authorized by Title V of the Trade Act of 1974 (19 U.S.C. 2461, et seq.), as amended (the “Trade Act”), and is implemented in accordance with Executive Order 11888 of November 24, 1975, as modified by subsequent Executive Orders and Presidential Proclamations.

In the 2005 Annual Product Review, the GSP Subcommittee of the Trade Policy Staff Committee reviewed petitions to change the product coverage of the GSP. The disposition of those petitions is described in Part I of “Results of the 2005 GSP Annual Review”, available at http://www.ustr.gov/Trade_Development/Preference_Programs/GSP/ Section_Index.html (“2005 Results List”).

The disposition of petitions considered in the 2005 Country Practices Review, and certain previously-deferred country practice petitions, is described in Part II pf the 2005 Results List.

In the 2005 De Minimis Waiver and Redesignation Review, the GSP Subcommittee evaluated the appraised import values of each GSP-eligible article in 2005 to determine whether an article from a GSP beneficiary developing country exceeded the GSP CNLs. De minimis waivers were granted to certain articles that exceeded the 50 percent import share CNL, but for which the aggregate value of the imports of that article was below the 2005 de minimis level of $17.5 million. Part III pf the 2005 Results List contains a list of the articles and the associated countries granted de minimis waivers.

An article from a GSP-eligible country that had previously exceeded one of the CNLs, but had fallen below the CNL for total annual trade in 2005 was redesignated for GSP eligibility pursuant to the 2005 review. That article and country are listed in Part IV of the 2005 Results List. Articles that exceeded one of the GSP CNLs in 2005, and that are newly excluded from GSP eligibility for a specific country, are listed in Part V of the 2005 Results List.

Marideth J. Sandler,
Executive Director, Generalized System of Preferences (GSP) Program, Chairman, GSP Subcommittee.

[FR Doc. E6-10441 Filed 7-3-06; 8:45 am]

BILLING CODE 3190-W6-P